NUCLEAR REGULATORY COMMISSION

[Docket No.: 40-08155]

Notice of Consideration of Amendment Request for H.C. Starck, Inc., Coldwater, MI, Site and Opportunity for a Hearing

The U.S. Nuclear Regulatory Commission (NRC) is considering issuance of a license amendment to Source Material License No. STB-1161 to authorize decommissioning of the H.C. Starck, Inc. facilities in Coldwater, Michigan. This license issued to H.C. Starck, Inc., authorizes the possession of a maximum of 44 kilograms of natural thorium for the processing of thorium oxide in the form of a thorium-nickel powder into ingots and sheets. As a result of conducting these licensed operations, the H.C. Starck site is radiologically contaminated with loose and fixed surface contamination on some interior building surfaces and equipment.

On June 4, 2002, the licensee submitted a site decommissioning plan (SDP) to NRC for review. The SDP indicates that long-term doses from the contaminated material at current levels are in excess of the requirements of the Radiological Criteria for License Termination rule (10 CFR part 20, Subpart E). Therefore, the licensee proposes to decontaminate the site to levels that will meet the requirements of the Radiological Criteria for License Termination rule and allow the site to be released for unrestricted use.

If the NRC approves this request, the approval will be documented in a license amendment to NRC License STB-1161. However, prior to the approval and issuance of the amendment, NRC will have made findings required by the Atomic Energy Act of 1954, as amended, and NRC's regulations. These findings will be documented in a Safety Evaluation Report and an Environmental Assessment.

NRC hereby provides notice that this is a proceeding on an application for a license amendment falling within the scope of Subpart L, “Informal Hearing Procedures for Adjudication in Materials Licensing Proceedings,” of NRC's rules and practice for domestic licensing proceedings in 10 CFR part 2. Pursuant to Sec. 2.1205(a), any person whose interest may be affected by this proceeding may file a request for a hearing in accordance with Sec. 2.1205(d). A request for a hearing must be filed within thirty (30) days of the date of publication of this Federal Register notice.

The request for a hearing must be filed with the Office of the Secretary by mail or facsimile (301-415-1101) addressed to: The Rulemaking and Adjudications Staff of the Office of the Secretary, U.S. Nuclear Regulatory Commission, Washington, DC 20555-0001. Attention: Rulemaking and Adjudications Staff.

In accordance with 10 CFR 2.1205(f), each request for a hearing must also be served, by delivering it personally, or by mail, to:

1. The applicant, H.C. Starck, Inc., 460 Jay Street, Coldwater, MI 49036, Attention Dave Meendering, Plant Manager, and,

2. The NRC staff, General Counsel, by mail, addressed to the General Counsel, U.S. Nuclear Regulatory Commission, Washington, DC 20555-0001. In addition to meeting other applicable requirements of 10 CFR part 2 of the NRC's regulations, a request for a hearing filed by a person other than an applicant must describe in detail:

a. The interest of the requester in the proceeding;

b. How that interest may be affected by the results of the proceeding, including the reasons why the requester should be permitted a hearing, with particular reference to the factors set out in Sec. 2.1205(h);

c. The requester's areas of concern about the licensing activity that is the subject matter of the proceeding; and,

3. The circumstances establishing that the request for a hearing is timely in accordance with Sec. 2.1205(d).

For Further Information: The application for the license amendment and supporting documentation are available for review at NRC's Public Electronic Reading Room, at http://www.nrc.gov/reading-rm/adams.html. The accession [file] number for this document is ML022550372. Any questions with respect to this action should be referred to Mr. William Snell, Decommissioning Branch, Region III, U.S. Nuclear Regulatory Commission, 801 Warrenville Road, Lisle, IL 60532-4351. Telephone: (630) 829-9871.

Dated at Lisle, Illinois, this 4th day of October 2002.
Christopher G. Miller,
Chief, Decommissioning Branch, Division of Nuclear Material Safety, Region III.

[FR Doc. 02-25993 Filed 10-10-02; 8:45 am]

BILLING CODE 7590-01-P